DEPARTMENT OF TRANSPORTATION

National Highway Traffic Safety Administration

[Docket No. NHTSA-2010-0115; Notice 1]

Yokohama Tire Corporation, Receipt of Petition for Decision of Inconsequential Noncompliance

Yokohama Tire Corporation (YTC) ¹ has determined that certain P215/60R15 93H AVID H4S passenger car replacement tires did not fully comply with Paragraph S5.5.1 of Federal Motor Vehicle Safety Standard (FMVSS) No. 139, New Pneumatic Radial Tires for Light Vehicles. On January 21, 2010, YTC filed an appropriate report pursuant to 49 CFR part 573 Defect and Noncompliance Responsibility and Reports.

¹ Yokohama Tire Corporation (YTC) is a corporation of the State of California that manufactures replacement equipment.

Pursuant to 49 U.S.C. 30118(d) and 30120(h) (see implementing rule at 49 CFR part 556), YTC has petitioned for an exemption from the notification and remedy requirements of 49 U.S.C. Chapter 301 on the basis that this noncompliance is inconsequential to motor vehicle safety.

This notice of receipt of YTC's petition is published under 49 U.S.C. 30118 and 30120 and does not represent any agency decision or other exercise of judgment concerning the merits of the petition.

Affected are approximately 6,254 ² P215/60R15 93H AVID H4S passenger car replacement tires that were manufactured in YTC's Salem, Virginia manufacturing plant during the period December 2, 2007 through September 19, 2009.

² YTC's petition, which was filed under 49 CFR Part 556, requested an agency decision to exempt YTC as replacement equipment manufacturer from the notification and recall responsibilities of 49 CFR Part 573 for 7,836 of the affected tires. Subsequent to filling its petition, YTC notified NHTSA that the actual number of affected tires is 6,254. We also note that the agency cannot relieve YTC distributors of the prohibitions on the sale, offer for sale, or introduction or delivery for introduction into interstate commerce of the noncompliant tires under their control after YTC recognized that the subject noncompliance existed. Those tires must be brought into conformance, exported, or destroyed.

Paragraphs S5.5.1 Of FMVSS No. 139 requires in pertinent part:

S5.5.1 Tire identification number.

(a) * * *

(b) Tires manufactured on or after September 1, 2009. Each tire must be labeled with the tire identification number required by 49 CFR part 574 on the intended outboard sidewall of the tire. Except for retreaded tires, either the tire identification number or a partial tire identification number, containing all characters in the tire identification number, except for the date code and, at the discretion of the manufacturer, any optional code, must be labeled on the other sidewall of the tire. Except for retreaded tires, if a tire does not have an intended outboard sidewall, the tire must be labeled with the tire identification number required by 49 CFR part 574 on one sidewall and with either the tire identification number or a partial tire identification number, containing all characters in the tire identification number except for the date code and, at the discretion of the manufacturer, any optional code, on the other sidewall.

YTC stated that the noncompliance is that the subject tires do not have full or partial Tire Identification Numbers (TIN) on one of their sidewalls. YTC explained that the intended outboard sidewall did have the complete TIN, but the opposite sidewall has no TIN or partial TIN.

YTC stated its belief that the noncompliance is inconsequential to motor vehicle safety for the following reasons:

All of the subject tires have been tested and certified compliant with all of the durability requirements of FMVSS No.139 for high speed, endurance and low inflation pressure performance. The tires also meet all of the physical dimension, resistance to bead unseating and strength requirements of FMVSS No. 139.

Warranty and claim data for the subject tires reveals a very small number of tire warranty returns, and no reports of claims associated with accidents or tire failure incidents.

The TIN becomes important in the event of a safety campaign and enables the owners to properly identify tires included in a captive action campaign. While the subject tires are noncompliant with the current FMVSS No. 139 sidewall marking regulation the subject tires do have a full TIN on one sidewall that can be used in case of a safety campaign. These tires are marked in the same manner that was the requirement for many years prior to FMVSS No. 139 that now requires the application of the additional TIN identifier in a full or partial form. The absence of one TIN identifier on one tire sidewall does not prohibit the ability to identify the tire as part of a safety campaign or tire recall when required.

YTC indicated that they have implemented corrected procedures to prevent this noncompliance from recurring in future production.

Based on the above stated reasons, YTC believes that the described noncompliance of its tires to meet the requirements of FMVSS No. 139 is inconsequential to motor vehicle safety, and that its petition, to exempt it from providing recall notification of noncompliance as required by 49 U.S.C. 30118 and remedying the recall noncompliance as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: By logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000 (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: September 20, 2010.

Authority: 49 U.S.C. 30118, 30120: Delegations of authority at CFR 1.50 and 501.8.

Issued on: August 16, 2010.
Claude H. Harris,
Director, Office of Vehicle Safety Compliance.

[FR Doc. 2010-20636 Filed 8-19-10; 8:45 am]

BILLING CODE 4910-59-P